DEPARTMENT OF COMMERCE

International Trade Administration

[A-580-807]

Polyethelene Terephthalate, Film, Sheet, and Strip From Korea; Postponement of Preliminary Results of Antidumping Duty Administrative Review

AGENCY: Import Administration, International Trade Administration, Department of Commerce

ACTION: Notice of extension of time limit.

SUMMARY: The Department of Commerce (the Department) is extending the time limit for the preliminary results of the administrative review of the antidumping duty order on polyethylene terephthalate film, sheet, and strip from Korea. The review of the antidumping duty order on polyethylene terephthalate film, sheet, and strip from Korea. The review covers three manufacturers/exporters of the subject merchandise and the period June 1, 1998 through May 31, 1999.

EFFECTIVE DATE: February 9, 2000.

FOR FURTHER INFORMATION CONTACT: Michael J. Heaney or Robert James, Office of AD/CVD Enforcement, Group III, Import Administration, International Trade Administration, U.S. Department of Commerce, 14th Street and Constitution Avenue, NW, Washington, DC 20230, telephone: (202) 482-4475 or 482-0649, respectively.

Postponement of Preliminary Results of Review

On July 29, 1999, the Department initiated this administrative review of the antidumping duty order on polyethylene terephthalate film, sheet, and strip from Korea. (64 FR 41075). The current deadline for the preliminary results is February 29, 2000. We determine that it is not practicable to complete this review within the original time frame. (See Memorandum to Joseph A. Spetrini dated February 3, 2000.)

Accordingly, the deadline for issuing the preliminary results of this review is now no later than May 1, 2000. The deadline for issuing the final results of this review will be no later than 120 days from the publication of the preliminary results.

This extension is in accordance with section 751(a)(3)(A) of the Tariff Act of 1930, as amended (19 U.S.C. 1675 (a)(3)(A)).

Dated: February 3, 2000.
Richard Weible,
Acting Deputy Assistant Secretary for AD/CVD Enforcement, Group III.

[FR Doc. 00-2976 Filed 2-8-00; 8:45 am]

BILLING CODE 3519-DS-M